DEPARTMENT OF EDUCATION

Office of Postsecondary Education; Overview Information; Training Program for Federal TRIO Programs (Training Program); Notice Inviting Applications for New Awards for Fiscal Year (FY) 2008

(Catalog of Federal Domestic Assistance (CFDA) Number: 84.103A.)

DATES:

Applications Available: April 22, 2008.

Deadline for Transmittal of Applications: May 23, 2008.

Full Text of Announcement

I. Funding Opportunity Description

Purpose of Program: The Training Program provides grants to train staff and leadership personnel employed in, participating in, or preparing for employment in, projects funded under the Federal TRIO Programs to improve the operation of these projects.

Priorities: In accordance with 34 CFR 75.105(b)(2)(iv) and 34 CFR 75.105(b)(2)(ii), these priorities are from section 402G(b) of the Higher Education Act of 1965, as amended (HEA), and the regulations for this program (34 CFR 642.34).

Note: Each successful applicant must provide at least one training session annually on each topic listed within the specific priority for which it receives a grant. The training must be tailored to the needs of TRIO staff with less than two years of TRIO project experience. In addition, to be consistent with the goal of serving all regions of the country, as provided in 34 CFR 642.33, each grantee must provide training to at least 290 participants each year, unless we specify another number of participants.

Each application must clearly identify the specific priority number for which a grant is requested, and must address each of the topics listed under that specific priority. To ensure fair consideration, an application for a grant under a specific priority should address only that priority. A grantee who wants to apply under more than one priority should submit separate applications for each priority. Each application also must identify how the applicant will meet the requirement to provide at least one training session tailored to the needs of TRIO staff with less than two years of experience, annually.

For example, an application for a grant under Priority 1 should address only training to improve recordkeeping, reporting student and project performance, and the rigorous evaluation of project performance as a means for designing, and operating a model TRIO project, and must describe how the applicant will provide at least one training session each year on each of these topics that is geared to the needs of TRIO staff with less than two years of TRIO project experience.

Absolute Priorities: For FY 2008, these priorities are absolute priorities. Under 34 CFR 75.105(c)(3), we consider only applications that meet these priorities. These priorities are:

Priority 1. Training to improve: recordkeeping; reporting student and project performance; and the rigorous evaluation of project performance in order to design and operate a model TRIO project.

Under this priority, one award will be made for training designed specifically for staff working on projects funded under the Upward Bound Program only. Any other awards under this priority will be made for training for staff working on projects funded under the TRIO Programs other than the Upward Bound Program.

Number of expected awards: 3-4.

Maximum award amount: $450,000.

Priority 2. Training on: budget management and the legislative and regulatory requirements for operation of projects funded under the Federal TRIO Programs.

Under this priority, one award will be made for training designed specifically for staff working on projects funded under the Upward Bound Program only. Any other awards under this priority will be made for training for staff working on projects funded under the TRIO Programs other than the Upward Bound Program.

Number of expected awards: 3-4.

Maximum award amount: $400,000.

Priority 3. Training on: Assessment of student needs; proven retention and graduation strategies; and the use of educational technology in order to design and operate a model TRIO project.

Number of expected awards: 2-3.

Maximum award amount: $450,000.

Priority 4. Training on: Student financial aid and college and university admissions policies and procedures.

Number of expected awards: 1-2.

Maximum award amount: $400,000.

Maximum number of applications for a priority: Under Priorities 1 and 2, an applicant may submit only one application under each specific priority for a grant to provide training designed specifically for staff working on projects funded under the Upward Bound Program only. In addition, under Priorities 1 and 2, an applicant may submit a second application under each specific priority to provide training for staff working on projects funded under TRIO Programs other than the Upward Bound Program. Under Priorities 3 and 4 an applicant may submit only one application for a grant under each specific priority. If an applicant submits more than one application under a specific priority, other than as noted for Priorities 1 and 2, we will accept only the application with the latest “date/time received” validation, and we will reject all other applications.

Program Authority: 20 U.S.C. 1070a-11 and 1070a-17.

Applicable Regulations: (a) The Education Department General Administrative Regulations (EDGAR) in 34 CFR parts 74, 75, 77, 79, 80, 82, 84, 85, 86, 97, 98 and 99.

(b) The regulations for this program in 34 CFR part 642.

Note: The regulations in 34 CFR part 79 apply to all applicants except federally recognized Indian tribes.

Note: The regulations in 34 CFR part 86 apply to institutions of higher education only.

II. Award Information

Type of Award: Discretionary grants.

Estimated Available Funds: $4,250,000.

Estimated Range of Awards: $350,000—$450,000.

Estimated Average Size of Awards: $425,000.

Maximum Award: We will reject any application that proposes a budget exceeding the maximum amount listed for each of the four absolute priorities, listed as follows, for a single budget period of 12 months:

• Priority 1: $450,000;

• Priority 2: $400,000;

• Priority 3: $450,000; and

• Priority 4: $400,000.

To be consistent with the goal of serving all regions of the country, as provided in 34 CFR 642.33, successful applicants will be expected to provide training to at least 290 participants, annually, unless we specifically approve another number.

Estimated Number of Awards: 9-13.

Note: The Department is not bound by any estimates in this notice.

Project Period: Up to 24 months.

III. Eligibility Information

1. Eligible Applicants: Institutions of higher education and other public and private nonprofit institutions and organizations.

2. Cost Sharing or Matching: This program does not require cost sharing or matching.

IV. Application and Submission Information

1. Address to Request Application Package: Jane Wrenn, U.S. Department of Education, 1990 K Street, NW., Room 7000, Washington, DC 20006-8510. Telephone: (202) 502-7600 or by e-mail: TRIO@ed.gov.

If you use a telecommunications device for the deaf (TDD), call the Federal Relay Service (FRS), toll free, at 1-800-877-8339.

Individuals with disabilities can obtain a copy of the application package in an alternative format (e.g., Braille, large print, audiotape, or computer diskette) by contacting the program contact person listed in this section.

2. Content and Form of Application Submission: Requirements concerning the content of an application, together with the forms you must submit, are in the application package for this program.

Page Limit: Part III, the application narrative is where you, the applicant, address the selection criteria and priorities that reviewers use to evaluate your application. You must limit Part III, the program narrative, to no more than 50 pages, using the following standards:

• A “page” is 8.5″ x 11″, on one side only, with 1″ margins at the top, bottom, and both sides. Page numbers and an identifier may be within the 1″ margin.

• Double space (no more than three lines per vertical inch) all text in the application narrative, including titles, headings, footnotes, quotations, references, captions and all text in charts, tables, and graphs.

• Use a font that is either 12 point or larger or no smaller than 10 pitch (characters per inch).

• Use one of the following fonts: Times New Roman, Courier, Courier New, or Arial. Applications submitted in any other font (including Times Roman and Arial Narrow) will not be accepted.

The page limit does not apply to Part I, the application for Federal assistance face sheet (SF 424); Part II, the budget information summary form (ED Form 524); Part III-A, the program profile form; Part III-B, the one-page narrative form; and Part IV, the assurances and certifications. The page limit also does not apply to the table of contents. If you include any attachments or appendices, these items will be counted as part of Part III, the program narrative, for purposes of the page limit requirement. You must include your complete response to the selection criteria and priorities in Part III, the program narrative.

We will reject your application if you exceed the page limit.

3. Submission Dates and Times:

Applications Available: April 22, 2008.

Deadline for Transmittal of Applications: May 23, 2008.

Applications for grants under this program must be submitted electronically using the Grants.gov Apply site (Grants.gov). For information (including dates and times) about how to submit your application electronically, or in paper format by mail or hand delivery if you qualify for an exception to the electronic submission requirement, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We specify unallowable costs in 34 CFR 642. We reference additional regulations outlining funding restrictions in the Applicable Regulations section in this notice.

6. Other Submission Requirements: Applications for grants under this program must be submitted electronically unless you qualify for an exception to this requirement in accordance with the instructions in this section.

a. Electronic Submission of Applications.

Applications for grants under the Training Program, CFDA Number 84.103A, must be submitted electronically using the Governmentwide Grants.gov Apply site at: http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Training Program at: http://www.Grants.gov. You must search for the downloadable application package for this program by the CFDA number. Do not include the CFDA number's alpha suffix in your search (e.g., search for 84.103 not 84.103A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at: http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time; or, if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Eileen S. Bland, U.S. Department of Education, 1990 K Street, NW., Room 7000, Washington, DC 20006-8510. Fax: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.103A), 400 Maryland Avenue, SW., Washington, DC 20202-4260; or

By mail through a commercial carrier: U.S. Department of Education, Application Control Center, Stop 4260, Attention: (CFDA Number 84.103A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.103A,) 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program competition are from 34 CFR 642.31 and are listed in the application package.

Note: For the FY 2008 competition, the Secretary has identified “the Need” for training projects through the selection of four absolute priorities. Therefore, the Secretary will consider that an applicant has satisfied the “Need” criterion listed in 34 CFR 642.31(f) by applying for a grant under one of these priorities, and applicants are not required to address this criterion. The application package contains instructions on addressing the remaining selection criteria.

2. Review and Selection Process: A panel of non-Federal readers will review each application in accordance with the selection criteria, pursuant to 34 CFR 642.30(a). The individual scores of the readers will be added and the sum divided by the number of readers to determine the reader score received in the review process. In accordance with 34 CFR 642.32, the Secretary will award prior experience points to applicants that have conducted a Training Program project within the last three fiscal years, based on their documented experience. Prior experience points, if any, will be added to the application's averaged reader score to determine the total score for each application.

Under section 402A(c)(3) of the HEA, the Secretary is not required to make awards under the Training Program for Federal TRIO Programs in the order of the scores received by the application in the review process and adjusted for prior experience. For FY 2008, the Secretary will select an application for funding within each specific absolute priority for which a grant is requested in the order of the reader score received by the application in the review process, as follows:

Under Priorities 1 and 2, within each specific priority, the Secretary will select an application for funding from among those applications that proposed to provide training designed specifically for staff working on projects funded under the Upward Bound Program only, in the order of the reader score received by the applications in the review process. The Secretary will also select an application for funding from among the applications that proposed to provide training for staff working on projects funded under TRIO Programs other than the Upward Bound Program in the order of the reader score received by the application in the review process.

Under Priorities 3 and 4, within each specific priority, the Secretary will select an application for funding in the order of the reader score received by the application in the review process.

Within each specific priority, if there are insufficient funds to fund all applications at the next reader score, the Secretary will use the reader score received by the application in the review process, adjusted for prior experience, to make awards. In the event a tie still exists, the Secretary will select for funding the applicant that has the greatest capacity to provide training in all regions of the Nation in order to assure accessibility to the greatest number of prospective training participants, consistent with 34 CFR 642.33.

VI. Award Administration Information

1. Award Notices: If your application is successful, we notify your U.S. Representative and U.S. Senators and send you a Grant Award Notice (GAN). We also may notify you informally; however, informal correspondence does not constitute an award notice or a binding funding decision.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The success of the Training Program is measured by its cost-effectiveness, based on the percentage of personnel working on TRIO funded projects who receive training each year, and by the percentage of those receiving training who rate the training as highly useful. All grantees will be required to submit an annual performance report documenting their success in training personnel working on TRIO funded projects, including the average cost per trainee and the trainees' evaluations of the effectiveness of the training provided. The success of the Training Program also is assessed on the quantitative and qualitative outcomes of the training projects based on project evaluation results.

VII. Agency Contacts

FOR FURTHER INFORMATION CONTACT: Jane Wrenn, or if unavailable, contact Eileen S. Bland, U.S. Department of Education, 1990 K Street, NW., Room 7000, Washington, DC 20006-8510. Telephone: (202) 502-7600 or by e-mail: TRIO@ed.gov.

If you use a TDD, call the FRS, toll free, at 1-800-877-8339.

VIII. Other Information

Alternative Format: Individuals with disabilities can obtain this document and a copy of the application package in an alternative format (e.g., Braille, large print, audiotape, or computer diskette) on request to the program contact persons listed under FOR FURTHER INFORMATION CONTACT in section VII in this notice.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: April 17, 2008.
Diane Auer Jones,
Assistant Secretary for Postsecondary Education.

[FR Doc. E8-8708 Filed 4-21-08; 8:45 am]

BILLING CODE 4000-01-P